ENVIRONMENTAL PROTECTION AGENCY

[FRL-8965-6; Docket ID No. EPA-HQ-ORD-2007-0517]

Extension of Public Comment Period: Second External Review Draft Integrated Science Assessment for Particulate Matter

AGENCY: Environmental Protection Agency (EPA).

ACTION: Notice; correction.

SUMMARY: The EPA published a notice in the Federal Register of Monday, August 31, 2009 (74 FR, 44842-44843), announcing the extension of the public comment period for the “Integrated Science Assessment for Particulate Matter—Second External Review Draft” (EPA/600/R-08/139B and EPA/600/R-08/139BA). The closing date of the extended comment period is a Federal holiday, October 12, 2009. Thus, the comment period is being extended to October 13, 2009.

FOR FURTHER INFORMATION CONTACT: Dr. Lindsay Wichers Stanek, NCEA; telephone: 919-541-7792; fax: 919-541-2985; or e-mail: stanek.lindsay@epa.gov.

Correction

In the Federal Register of August 31, 2009, in FR Doc. FRL-8951-4, on page 44842, in the second column, correct the DATES caption to read:

DATES: The public comment period started on July 31, 2009 (74 FR 38185). This notice announces the extension of the deadline for public comment from October 12, 2009, to October 13, 2009. Comments must be received on or before October 13, 2009.

Dated: September 23, 2009.
Rebecca Clark,
Acting Director, National Center for Environmental Assessment.

[FR Doc. E9-23943 Filed 10-2-09; 8:45 am]

BILLING CODE 6560-50-P